DEPARTMENT OF ENERGY

Federal Energy Regulatory Commission

Notice of FERC Staff Participation at MISO-PJM-SPP Single Market Design Forum Meeting

July 2, 2002.

The Federal Energy Regulatory Commission hereby gives notice that on July 11, 2002, members of its staff will attend the meeting of the MISO-PJM-SPP Single Market Design Forum meeting, concerning the development of a joint and common wholesale energy market for the Midwest Independent Transmission System Operator, Inc. (MISO), PJM Interconnection (PJM) and Southwest Power Pool, Inc. (SPP) regions. The staff's attendance is part of the Commission's ongoing outreach efforts. The meeting is sponsored by MISO, PJM and SPP, and will be held on July 11, 2002, 10 a.m. at the Minneapolis Airport Marriot, 2020 East 79th Street, Bloomington, MN 55425. This meeting is open to the public. The meeting may discuss matters at issue in Docket No. RM01-12-000, Electricity Market Design and Structure.

For more information, contact Mike Gahagan, Vice President, Chief Information Officer & Chief Strategic Officer, Midwest Independent Transmission System Operator, Inc. at (317) 249-5450, or Lawrence R. Greenfield, Senior Counsel, Federal Energy Regulatory Commission at (202) 208-0415 or lawrence.greenfield@ferc.gov.

Linwood A. Watson, Jr.,
Deputy Secretary.

[FR Doc. 02-17164 Filed 7-8-02; 8:45 am]

BILLING CODE 6717-01-P